FEDERAL COMMUNICATIONS COMMISSION

47 CFR Part 2

[DA 04-687]

Non-Substantive Revision to the Table of Frequency Allocation

AGENCY: Federal Communications Commission.

ACTION: Final rule.

SUMMARY: This document revises the Commission's Table of Frequency Allocations. Specifically, it reinstates a revised version of footnote US269. The reinstated footnote serves a valuable informational purpose in that it will alert the public as to the locations of radio astronomy observatories and will provide contact information so that reasonable steps may be taken to protect these observatories from harmful interference.

DATES: Effective April 9, 2004.

FOR FURTHER INFORMATION CONTACT: Tom Mooring, Office of Engineering and Technology, (202) 418-2450.

SUPPLEMENTARY INFORMATION: This is a summary of the Commission's Order, DA 04-687, adopted March 15, 2004, and released March 16, 2004. The full text of this document is available on the Commission's Internet site at www.fcc.gov. It is also available for inspection and copying during regular business hours in the FCC Reference Center (Room CY-A257), 445 12th Street, SW., Washington, DC 20554. The full text of this document also may be purchased from the Commission's duplication contractor, Qualex International, Portals II, 445 12th St., SW., Room CY-B402, Washington, DC 20554; telephone (202) 863-2893; fax (202) 863-2898; e-mail qualexin@aol.com.

Summary of the Order

1. On November 4, 2003, the Commission released a Report and Order in ET Docket No. 02-305, FCC 03-269, 68 FR 74322, December 23, 2003, that removed in its entirety footnote US269 from the Table of Frequency Allocations in the Commission's rules (47 CFR 2.106, footnote US269). The National Telecommunications and Information Administration (NTIA) of the U.S. Department of Commerce requested, in a letter dated March 12, 2004, that we reinstate a revised version of footnote US269 in the Commission's rules. We agree with NTIA that reinstatement of the footnote, as amended, serves a valuable informational purpose; that is, the footnote would alert the public as to the locations of radio astronomy observatories that observe in the band 2655-2690 MHz on a secondary basis and would provide contact information so that reasonable steps may be taken to protect these observatories from harmful interference.

2. Consequently, footnote US269 is added to the United States Table of Frequency Allocations for the band 2655-2690 MHz, as described in the rules. This change is informational, and not substantive, in nature.

3. Pursuant to sections 0.31 and 0.241 of the Commission's rules on delegated authority, 47 CFR 0.31 and 0.241, footnote US269 is added to the Table of Frequency Allocations, 47 CFR 2.106, as stated in the Order, effective April 9, 2004.

List of Subjects in 47 CFR Part 2

Radio.

Federal Communications Commission.
William F. Caton,
Deputy Secretary.

Rule Changes

For the reasons discussed in the preamble, the Federal Communications Commission amends 47 CFR part 2 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, is amended as follows:

a. Revise page 53.

b. In the list of United States (US) Footnotes, add footnote US269.

The revisions and additions read as follows:

§ 2.106 Table of Frequency Allocations.

* * * * *

BILLING CODE 6712-01-P

UNITED STATES (US) FOOTNOTES

* * * * *

US269 In the band 2655-2690 MHz, radio astronomy observations are performed at the locations listed in US311. Licensees are urged to coordinate their systems through the Electromagnetic Spectrum Management Unit, Division of Astronomical Sciences, National Science Foundation, Room 1030, 4201 Wilson Blvd., Arlington, VA 2230.

* * * * *

[FR Doc. 04-8050 Filed 4-8-04; 8:45 am]

BILLING CODE 6712-01-P